DEPARTMENT OF COMMERCE

National Institute of Standards and Technology

[Docket No. 040209047-4047-01]

RIN 0693-ZA56

Advanced Technology Program

AGENCY: National Institute of Standards and Technology (NIST), Department of Commerce.

ACTION: Notice and announcement of Public Meetings (Proposers' Conferences).

SUMMARY: NIST's Advanced Technology Program (ATP) announces that it will hold a single fiscal year 2004 ATP competition and is soliciting proposals for financial assistance. ATP also announces that it will hold public meetings (Proposers' Conferences) for all interested parties. ATP is soliciting proposals in all technology areas. ATP provides cost-shared multi-year funding to single companies and to industry-led joint ventures to accelerate the development of challenging, high risk technologies that promise significant commercial payoffs and widespread benefits for the nation. This government-industry partnership aids companies in accelerating the development of emerging or enabling technologies that lead to revolutionary new products and industrial processes and services that can compete in rapidly changing world markets. ATP challenges the research and development (R&D) community to take on higher technical risk with commensurately higher potential payoffs for the nation than they would otherwise pursue.

DATES: The due date for submission of proposals is Wednesday, April 14, 2004. All hand-delivered or electronically submitted proposals must be received by 3 p.m. Eastern Time on April 14, 2004; all other proposals must be postmarked by April 14, 2004, and received no later than 3 p.m. Eastern Time Wednesday, April 28, 2004. Proposals submitted through guaranteed overnight carriers are deemed to be postmarked on the date they are delivered to the carrier.

ADDRESSES: Proposals must be submitted to ATP as follows:

Paper submission: Send to National Institute of Standards and Technology, Advanced Technology Program, 100 Bureau Drive, Stop 4701, Gaithersburg, MD 20899-4701.

Electronic submission: Electronic Submission System (ESS)—Use the downloadable forms and the Forms Viewer at no cost at http://ess.atp.nist.gov.

FOR FURTHER INFORMATION CONTACT: Barbara Lambis at 301-975-4447 or by e-mail at barbara.lambis@nist.gov.

SUPPLEMENTARY INFORMATION: Additional Information: The full funding opportunity announcement for this request for proposals is available at http://www.grants.gov. The full funding opportunity announcement text can be accessed on the ATP Web site at http://www.atp.nist.gov. To request a copy of the ATP Proposal Preparation Kit call ATP at 1-800-ATP-FUND (1-800-287-3863). The Kit is also available on the Internet on the ATP Web site http://www.atp.nist.gov or through the electronic submission Web site at http://ess.atp.nist.gov. Note that ATP is mailing the Kit to all individuals whose names are currently on the ATP mailing list. Those individuals need not contact ATP to request a copy.

Meetings: ATP is holding several public meetings (Proposers' Conferences) at several locations around the country. These meetings provide general information regarding the program, tips on preparing proposals, and the opportunity for questions and answers. Attendance at these Proposers' Conferences is not required; many successful ATP recipients have not attended a Proposers' Conference. However, those who have attended said they found the information helpful. Proprietary technical or business discussions about specific project ideas with NIST staff are not permitted at the public meetings or at any time before submitting the proposal to ATP. Therefore, you should not expect to have proprietary issues addressed at the public meetings. NIST staff will not critique proprietary project ideas while they are being developed by a proposer. However, NIST staff will, at any time, answer questions that you may have about our project selection criteria, selection process, eligibility requirements, cost-sharing requirements, and the general characteristics of a good ATP project.

ATP Proposers' Conferences are being held on the following dates and locations:

a. March 1, 2004 in Atlanta, GA and in Dallas, TX;

b. March 3, 2004 in Boston, MA and in Seattle, WA;

c. March 5, 2004 in Chicago (Rosemont), IL and in Los Angeles, CA; and

d. March 9, 2004 in Gaithersburg, MD.

No registration fee will be charged. Detailed information on the specific locations of the Proposers' Conferences is available on the ATP Web site http://www.atp.nist.gov. To register for the public meeting or for further information, contact ATP at 1-800-ATP-FUND (1-800-287-3863), or register via the NIST Web site: http://www.atp.nist.gov/atp/reg_form.htm.

Funding Availability: Fiscal year 2004 appropriations include funds in the amount of $60.7 million for new ATP awards. ATP funds proposals on a rolling basis, therefore, some portion of this amount may be used for new awards for proposals submitted pursuant to the procedures established for the fiscal year 2002 competition and, similarly, a portion may be used for proposals submitted under this fiscal year 2004 competition. As a result, approximately $30 million of the fiscal year 2004 appropriations may be used to fund selected proposals submitted under the fiscal year 2002 competition and approximately $30 million is available for new awards under this fiscal year 2004 competition.

Statutory Authority: 15 U.S.C. 278n.

CFDA: 11.612, Advanced Technology Program (ATP).

Eligibility: U.S.-owned, single, for-profit companies and industry-led joint ventures may apply for ATP funding. In addition, companies incorporated in the United States that have parent companies incorporated in another country may apply. The term company means a for-profit organization, including sole proprietorships, partnerships, limited-liability companies (LLCs), and corporations.

The submitting organization must provide information in the Gate 2 submission related to the role of the foreign-owned company in the project to help address foreign eligibility requirements.

Cost Sharing Requirements: Small and medium sized companies applying as single-company proposers are not required to provide cost sharing of direct costs; however, they may pay a portion of the direct costs if they propose to do so, in addition to the mandatory payment of all indirect costs throughout the project. Large companies applying as single-company proposers must cost share at least 60 percent of the yearly total project costs (direct plus all of the indirect costs). Joint ventures must cost share more than 50 percent of the yearly total project costs (direct plus indirect costs).

Intergovernmental Review: ATP does not involve the mandatory payment of any matching funds from state or local government and does not affect directly any state or local government. Accordingly, the Department of Commerce has determined that Executive Order 12372, “Intergovernmental Review of Federal Programs,” is not applicable to this program.

Selection Procedures: All proposals are selected based on a peer-review process, as described in 15 CFR 295.4. All proposals will be reviewed under a multiple-stage and sequential review process; therefore, prescribed information is requested at different stages called gates. There are four gates as follows:

Gate 1: Detailed information addressing the scientific and technological merit selection criterion and preliminary information addressing the potential for broad-based economic benefits selection criterion are submitted. If the information is determined to meet the scientific and technological merit selection criterion, the proposer is notified that the proposal has passed the Gate 1 stage and is asked to submit the required Gate 2 information. The proposer will have two weeks (14 calendar days) from written notification to submit the required Gate 2 information.

Gate 2: Detailed information addressing the potential for broad-based economic benefits selection criterion and the Budget Narrative are submitted. If the information submitted is determined to have high merit, the proposer is notified that the proposal has been selected as a semi-finalist and proceeds to Gate 3.

Gate 3: An invitation to the National Institute of Standards and Technology/ATP for an oral review is issued. Required forms and additional documentation are submitted, as requested by ATP. After the oral review, all semifinalist proposals are ranked, and the Selecting Official selects funding recipients based on the ranking, the availability of funds, the adherence to ATP selection criteria, and the appropriate distribution of funds among technologies and their applications. NIST reserves the right to deny awards in any case where a reasonable doubt exists regarding a proposer's ability to comply with ATP requirements or to handle Federal funds responsibly. All funding decisions are final and cannot be appealed. NIST reserves the right to negotiate the cost and scope of the proposed work with the proposers who have been selected to receive awards. For example, NIST may require that the proposer delete from the scope of work a particular task that is deemed by NIST/ATP to be product development or otherwise inappropriate for ATP support. The proposals selected by the Selecting Official for funding proceed to Gate 4.

Gate 4: If the proposal is selected, the final award is processed and issued and funding begins.

Evaluation Criteria: The evaluation criteria used to select a proposal for funding and their respective weights are found in 15 CFR 295.6.

Selection Factors: The Source Evaluation Board (a committee made up of Federal employees) ratings shall provide a rank order to the Selecting Official for final recommendation to the NIST Grants Officer. The Selecting Official shall award in the rank order unless a proposal is justified to be selected out of rank order based upon the availability of funds, the adherence to ATP selection criteria, or the appropriate distribution of funds among technologies and their applications. NIST reserves the right to deny awards in any case where a reasonable doubt exists regarding a proposer's ability to comply with ATP requirements or to handle Federal funds responsibly.

Ineligible Projects

a. Straightforward improvements of existing products or product development.

b. Projects that are basic research.

c. Projects that are Phase II, III, or IV clinical trials.

d. Pre-commercial-scale demonstration projects where the emphasis is on demonstrating that some technology works on a large scale or is economically sound rather than on R&D that extends the state of the art.

e. Projects that ATP believes would likely be completed without ATP funds in the same time frame or nearly the same time frame or with the same scale or scope.

f. Predominantly straightforward, routine data gathering (e.g., creation of voluntary consensus standards, data gathering/handbook preparation, testing of materials, or unbounded research aimed at basic discovery science) or application of standard engineering practices.

g. Projects that are simply a follow-on or a continuation of tasks previously funded in ATP projects from essentially the same proposing team.

h. Projects in which the only risk is market oriented—that is, the risk that the end product may not be embraced by the marketplace.

Unallowable/Ineligible Costs. The following items, regardless of whether they are allowable under the federal cost principles, are unallowable under ATP:

a. Marketing, sales, or commercialization costs, unless they are included in a federally approved indirect cost rate.

b. Costs for the construction of new buildings or extensive renovations of existing laboratory buildings. However, costs for the construction of experimental research and development facilities to be located within a new or existing building are allowable provided that the equipment or facilities are essential for carrying out the proposed scientific and technical project and are approved by the NIST Grants Officer.

c. Indirect costs for single-company recipients, which must be absorbed by the company. (Note that with large businesses submitting proposals as single-company proposers, indirect costs absorbed by the large business may be used to meet the cost-sharing requirement.)

d. Bid and proposal costs, tuition costs, and costs for marketing surveys, commercialization studies, and general business planning, unless they are incorporated into a federally approved indirect cost rate. However, a university participating in an ATP project as subcontractor or as a joint venture partner may charge ATP for tuition remission or other forms of compensation in lieu of wages paid to university students working on ATP projects but only as provided in OMB Circular A-21, Section J.41. In such cases, tuition remission would be considered a cash contribution rather than an in-kind contribution.

e. For research involving human and/or animal subjects, any costs used to secure Institutional Review Board or Institutional Animal Care and Use Committee approvals before the award or during the award.

f. Relocation costs, unless they are included in a federally approved indirect cost rate.

g. Office furniture costs, unless they are included in a federally approved indirect cost rate.

h. Costs for general purpose office equipment and supplies that are not used exclusively for the research—for example, office computers, printers, copiers, paper, pens, and toner cartridges.

i. Subcontractor expenses such as those for office supplies and conferences/workshops.

j. Patent costs and legal fees, unless they are included in a federally approved indirect cost rate.

k. Profit, management fees, interest on borrowed funds, or facilities capital cost of money.

l. Subcontracts to another part of the same company or to another company with identical or nearly identical ownership. Work proposed by another part of the same company or by another company with identical or nearly identical ownership should be shown as funded through interorganizational transfers that do not contain profit. Interorganizational transfers should be broken down in the appropriate budget categories.

m. Pre-award costs.

Administrative and National Policy Requirements: The Department of Commerce Pre-Award Notification Requirements for Grants and Cooperative Agreements contained in the Federal Register notice of October 1, 2001 (66 FR 49917), as amended by the Federal Register notice published on October 30, 2002 (67 FR 66109), are applicable to this competition announcement/solicitation. These requirements are available on the Web site at http://www.osec.doc.gov/oebam/pdf/6-PreAward.pdf.

Intellectual Property Requirements: Title to any inventions arising from an ATP-funded project must be held by a for-profit company, or companies, incorporated or organized in the United States. A university, government laboratory, independent research organization, or other nonprofit organization cannot retain title to patents, although such organizations can receive mutually agreeable payments (either one-time or continuing) from the company or companies holding title to the patent. However, a for-profit corporation organized by a university can be considered a for-profit company for the purpose of retaining title to patents arising from an ATP award. In such a case, documentation of the for-profit status must be provided in the proposal. If an organization is not a for-profit company but plans to be involved in an ATP project, it will not be able to retain title to any patentable inventions arising from the ATP project. An organization's legal department should be made aware that ATP cannot waive this mandated provision (15 U.S.C. 278n(d)(11)(A) and 15 CFR 295.2). Title to any such invention shall not be transferred or passed, except to a company organized in the United States, until the expiration of the first patent obtained in connection with such invention.

The United States reserves a nonexclusive, nontransferable, irrevocable, paid-up license to practice or have practiced for or on behalf of the United States any patentable invention arising from an ATP award. The Federal government shall not, however, in the exercise of such license, publicly disclose proprietary information related to the license. The government use license must also grant to government, and others acting on its behalf, a paid-up, nonexclusive, irrevocable, worldwide license for all data first produced in the performance of the award to reproduce, prepare derivative works, perform publicly and display publicly, and for data other than computer software to distribute to the public by or on behalf of the government. The Federal government also has march-in rights in accordance with 37 CFR 401.14(j). Since its inception in 1990, ATP has not exercised either of these rights.

Projects Involving Human Subjects: Research involving human subjects must be in compliance with applicable Federal regulations and NIST policies for the protection of human subjects. Human subjects research involves interactions with live human subjects or the use of data, images, tissue, and/or cells/cell lines (including those used for control purposes) from human subjects. Research involving human subjects may include activities such as the use of image and/or audio recordings of people, taking surveys or using survey data, using databases containing personal information, and many tasks beyond those within traditional biomedical research. A Human Subjects Determination Checklist is included in the February 2004 ATP Proposal Preparation Kit as Exhibit 2 (http://www.atp.nist.gov) to assist you in determining whether your proposal has human subjects involvement, which would require additional documents with the Gate 1 and/or Gate 3 submission(s). Detailed information regarding the use of human subjects in research projects and required documentation is available at http://www.atp.nist.gov/atp/kit-04/has_guide/contents.htm, or by calling 1-800-287-3863.

Projects Involving Animal Subjects: Research involving animal subjects must be in compliance with applicable federal regulations and NIST policies for the protection of animal subjects. Vertebrate animal research involves live animals that are being cared for, euthanized, or used by the project participants to accomplish research goals or for teaching or testing. The regulations do not apply to animal tissues purchased from commercial processors or tissue banks or to uses of preexisting images of animals (e.g., a wildlife documentary or pictures of animals in newscasts). Detailed information regarding the use of animal subjects in research projects and required documentation can be obtained at http://www.atp.nist.gov/atp/kit-04/has_guide/contents.htm, or by calling 1-800-287-3863.

Paperwork Reduction Act: This notice contains collection of information requirements subject to the Paperwork Reduction Act (PRA). The use of Forms NIST-1262 and NIST-1263, SF-424B, SF-LLL, CD-346, and Budget Narrative form has been approved by OMB under the respective control numbers 0693-0009, 0348-0040, 0348-0046, 0605-0001, and 0693-0009. Notwithstanding any other provision of the law, no person is required to respond to, nor shall any person be subject to a penalty for failure to comply with, a collection of information, subject to the requirements of the PRA, unless that collection of information displays a currently valid OMB Control Number.

Executive Order 12866: This notice has been determined to be not significant for purposes of Executive Order 12866.

Executive Order 13132 (Federalism): It has been determined that this notice does not contain policies with Federalism implications as that term is defined in Executive Order 13132.

Administrative Procedure Act/Regulatory Flexibility Act: Notice and comment are not required under the Administrative Procedure Act (5 U.S.C. 553) or any other law, for notices relating to public property, loans, grants, benefits or contracts (5 U.S.C. 553(a)). Because notice and comment are not required under the Administrative Procedure Act, a Regulatory Flexibility Analysis is not required and has not been prepared for this notice, 5 U.S.C. 601 et seq.

Dated: February 11, 2004.
Arden L. Bement, Jr.,
Director, NIST.

[FR Doc. 04-3435 Filed 2-17-04; 8:45 am]

BILLING CODE 3510-13-P